DEPARTMENT OF THE TREASURY

Internal Revenue Service

Members of Senior Executive Service Performance Review Boards

AGENCY: Internal Revenue Service (IRS), Treasury.

ACTION: Notice.

SUMMARY: The purpose of this notice is to publish the names of those IRS employees who will serve as members on IRS' Fiscal Year 2010 Senior Executive Service (SES) Performance Review Boards.

DATES: This notice is effective September 1, 2010.

FOR FURTHER INFORMATION CONTACT: Sharnetta Walton, 1111 Constitution Avenue, NW., Room 2403, Washington, DC 20224, (202) 622-6246.

SUPPLEMENTARY INFORMATION: Pursuant to 5 U.S.C. 4314(c)(4), this notice announces the appointment of members to the Internal Revenue Service's SES Performance Review Boards. The names and titles of the executives serving on the boards follow:

Steven T. Miller, Deputy Commissioner for Services and Enforcement

Mark A. Ernst, Deputy Commissioner for Operations Support

Brady R. Bennett, Director, Compliance, Wage and Investment (W&I)

Peggy A. Bogadi, Deputy Commissioner for Operations (W&I)

Lauren Buschor, Deputy Associate CIO, Enterprise Operations, Modernization and Information Technology Services (MITS)

Richard E. Byrd, Commissioner (W&I)

Robin L. Canady, Director, Strategy and Finance (W&I)

Susan W. Carroll, Director, Customer Assistance, Relationships and Education (W&I)

Debra C. Chew, Executive Director, Office of Equity, Diversity and Inclusion

Robert N. Crawford, Associate CIO, Enterprise Services (MITS)

Michael Danilack, Deputy Commissioner, International, Large and Mid-Size Business (LMSB)

Jonathan M. Davis, Chief of Staff, Office of the Commissioner

Paul D. DeNard, Deputy Commissioner, Operations (LMSB)

Alison L. Doone, Chief Financial Officer

Vicki S. Duane, Director, International Operations, Criminal Investigation (CI)

Alain Dubois, Director, Research, Small Business/Self Employed (SB/SE)

James P. Falcone, IRS Human Capital Officer

Faris R. Fink, Deputy Commissioner (SB/SE)

Carl T. Froehlich, Associate CIO, End User and Equipment Services (MITS)

Silvana G. Garza, Associate CIO, Affordable Care Act Program Management Office (MITS)

David A. Grant, Chief, Agency-Wide Shared Services

Joseph H. Grant, Deputy Commissioner, Tax Exempt and Government Entities (TEGE)

John H. Imhoff, Jr., Director Specialty Programs (SB/SE)

Sarah Hall Ingram, Commissioner (TEGE)

William H. Holmes, Project Director, Data Strategy Implementation (SB/SE)

Robin DelRey Jenkins, Director, Business Systems Planning (SB/SE)

Rebecca Mack Johnson, Director, Strategy and Finance (SB/SE)

Michael D. Julianelle, Director, Employee Plans (TEGE)

Gregory E. Kane, Deputy Chief Financial Officer

Frank M. Keith, Jr., Chief, Communications and Liaison

Lois G. Lerner, Director, Exempt Organizations (TEGE)

Heather C. Maloy, Commissioner (LMSB)

Stephen L. Manning, Associate CIO, Enterprise Networks (MITS)

Rosemary D. Marcuss, Director, Research, Analysis and Statistics

Gretchen R. McCoy, Associate CIO, Modernization Program Management Office (MITS)

James M. McGrane, Deputy CIO for Strategy/Modernization (MITS)

Moises C. Medina, Director, Government Entities (TEGE)

Terence V. Milholland, Chief Technology Officer

Katherine M. Miller, Associate CIO, Applications Development (MITS)

Debra L. Nelson, Director, Management Services (MITS)

Nina E. Olson, National Taxpayer Adovcate

Orland M. Parker, Associate CIO, Strategy and Planning (MITS)

Rick A. Raven, Deputy Chief (CI)

Julie Rushin, Deputy CIO for Operations (MITS)

Diane S. Ryan, Chief, Appeals

Melissa R. Snell, Deputy National Taxpayer Advocate

Victor S. O. Song, Chief (CI)

David W. Stender, Associate CIO, Cybersecurity (MITS)

Peter J. Stipek, Director, Customer Accounts Services (W&I)

Keith V. Taylor, Director, Human Resources (SB/SE)

Michael J. Thomas, Director, Operations Policy and Support (CI)

Elizabeth Tucker, Deputy Commissioner for Support (W&I)

Peter C. Wade, Business Modernization Director (W&I)

Christopher Wagner, Commissioner (SB/SE)

Robert C. Wilkerson, Director, Communications, Liaison and Disclosure (SB/SE)

David R. Williams, Director, Electronic Tax Administration and Refundable Credits (W&I)

Deborah G. Wolf, Director, Office of Privacy, Information Protection and Data Security

This document does not meet the Department of the Treasury's criteria for significant regulations.

Dated: August 9, 2010.
Steven T. Miller,
Deputy Commissioner for Services and Enforcement, Internal Revenue Service.

[FR Doc. 2010-20331 Filed 8-17-10; 8:45 am]

BILLING CODE 4830-01-P